DEPARTMENT OF THE INTERIOR

Fish and Wildlife Service

Information Collection Sent to the Office of Management and Budget (OMB) for Approval; OMB Control Number 1018-0022; Federal Fish and Wildlife Permit Applications and Reports—Migratory Birds and Eagles

AGENCY: Fish and Wildlife Service, Interior.

ACTION: Notice; Request for Comments.

SUMMARY: We (Fish and Wildlife Service) have sent an Information Collection Request (ICR) to OMB for review and approval. The ICR, which is summarized below, describes the nature of the collection and the estimated burden and cost. This information collection is scheduled to expire on July 31, 2007. We may not conduct or sponsor and a person is not required to respond to a collection of information unless it displays a currently valid OMB control number. However, under OMB regulations, we may continue to conduct or sponsor this information collection while it is pending at OMB.

DATES: You must submit comments on or before August 20, 2007.

ADDRESSES:

Send your comments and suggestions on this ICR to the Desk Officer for the Department of the Interior at OMB-OIRA at (202) 395-6566 (fax) or OIRA_DOCKET@OMB.eop.gov (e-mail). Please provide a copy of your comments to Hope Grey, Information Collection Clearance Officer, Fish and Wildlife Service, MS 222-ARLSQ, 4401 North Fairfax Drive, Arlington, VA 22203 (mail); (703) 358-2269 (fax); or hope_grey@fws.gov (e-mail).

FOR FURTHER INFORMATION CONTACT: To request additional information about this IC, contact Hope Grey by mail, fax, or e-mail (see ADDRESSES) or by telephone at (703) 358-2482.

SUPPLEMENTARY INFORMATION:

OMB Control Number: 1018-0022.

Title: Federal Fish and Wildlife Permit Applications and Reports—Migratory Birds and Eagles, 50 CFR 10, 13, 21, and 22.

Service Form Number(s): 3-200-6 through 3-200-18, 3-200-67, 3-200-68, 3-200-77, 3-200-78, 3-200-79, 3-202-1 through 3-202-14, 3-186, and 3-186A.

Type of Request: Revision of currently approved collection.

Affected Public: Individuals; zoological parks; museums; universities; scientists; taxidermists; businesses; and Federal, State, tribal, and local governments.

Respondent's Obligation: Required to obtain or retain a benefit.

Frequency of Collection: On occasion for applications; annually or on occasion for reports.

Estimated Annual Number of Respondents: 29,844.

Estimated Total Annual Responses: 55,674.

Estimated Time per Response: Varies from 15 minutes to 12 hours depending on activity.

Estimated Total Annual Burden Hours: 47,331.

Estimated Nonhour Cost Burden: $706,300 for fees associated with permit applications.

Abstract: Our Regional Migratory Bird Permit Offices use information that we collect on permit applications to determine the eligibility of applicants for permits requested in accordance with the criteria in various Federal wildlife conservation laws and international treaties, including:

(1) Migratory Bird Treaty Act (16 U.S.C. 703 et seq.).

(2) Bald and Golden Eagle Protection Act (16 U.S.C. 668).

Service regulations implementing these statutes and treaties are in Chapter I, Subchapter B of Title 50 Code of Federal Regulations (CFR). These regulations stipulate general and specific requirements that, when met, allow us to issue permits to authorize activities that are otherwise prohibited.

This revised IC includes migratory bird and eagle permit applications and the reports associated with the permits. We have:

(1) Modified the format and content of the currently approved application forms so that they (a) are easier to understand and complete and (b) accommodate future electronic permitting.

(2) Added six new forms:

(a) FWS Form 3-200-15b (Eagle Parts for Native American Religious Purposes - Reorder Request) will enable Native Americans to send reorders directly to the National Eagle Repository, which distributes the parts, instead of to the Regional permit office.

(b) FWS Form 3-200-77 (Native American Religious Use - Eagle Take), FWS Form 3-200-78 (Native American Religious Use - Live Eagles), and FWS Form 3-200-79 (Special Purpose-Abatement Activities Using Raptors) will provide the public with applications specifically designed to address information necessary to issue permits for these activities.

(c) FWS Form 3-202-13 (Eagle Exhibition Annual Report) will facilitate reporting under Eagle Exhibition permits by clarifying that we need information about eagles only. Currently, permittees use FWS Form 3-202-5 (Special Purpose Possession Live/Dead (Education) Annual Report), which requests information on other migratory birds.

(d) FWS Form 3-202-14 (Native American Religious Use - Live Eagles Annual Report) will facilitate reporting under the permits for Native American religious use.

We have transferred FWS Forms 3-200-69 (CITES Import/Export - Eagle Transport for Scientific or Exhibition Purposes) and 3-200-70 (CITES Import/Export - Eagle Transportation for Indian Religious Purposes), currently approved under this information collection, to OMB Control Number 1018-0093.

Comments: On March 23, 2007, we published in the Federal Register (72 FR 13815) a notice of our intent to request that OMB renew this information collection. In that notice, we solicited comments for 60 days, ending on May 22, 2007. We received one comment. The comment did not address issues surrounding the proposed collection of information or the cost and hour burden estimates, but instead objected to other aspects of our program, such as killing of eagles. We have not made any changes to this collection as a result of the comment.

III. Request for Comments

We again invite comments concerning this IC on:

(1) whether or not the collection of information is necessary, including whether or not the information will have practical utility;

(2) the accuracy of our estimate of the burden for this collection of information;

(3) ways to enhance the quality, utility, and clarity of the information to be collected; and

(4) ways to minimize the burden of the collection of information on respondents.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: June 29, 2007.
Hope Grey,
Information Collection Clearance Officer, Fish and Wildlife Service.

FR Doc. E7-14057 Filed 7-19-07; 08:45am>

Billing Code 4310-55-S